DEPARTMENT OF COMMERCE

Foreign-Trade Zones Board

[S-159-2021]

Approval of Expansion of Subzone 18F; Lam Research Corporation, Livermore, California

On October 21, 2021, the Executive Secretary of the Foreign-Trade Zones (FTZ) Board docketed an application submitted by the City of San Jose, grantee of FTZ 18, requesting an expansion of Subzone 18F, subject to the existing activation limit of FTZ 18, on behalf of Lam Research Corporation, in Livermore, California.

The application was processed in accordance with the FTZ Act and Regulations, including notice in the Federal Register inviting public comment (86 FR 59361-59362, October 27, 2021). The FTZ staff examiner reviewed the application and determined that it meets the criteria for approval. Pursuant to the authority delegated to the FTZ Board Executive Secretary (15 CFR 400.36(f)), the application to expand Subzone 18F was approved on December 7, 2021, subject to the FTZ Act and the Board's regulations, including Section 400.13, and further subject to FTZ 18's 2,000-acre activation limit.

Dated: December 7, 2021.
Elizabeth Whiteman,
Acting Executive Secretary.

[FR Doc. 2021-26888 Filed 12-10-21; 8:45 am]

BILLING CODE 3510-DS-P